DEPARTMENT OF ENERGY

National Nuclear Security Administration

Notice of Availability of Solicitation

AGENCY: NNSA Service Center, Department of Energy.

ACTION: Notice of availability of solicitation—Energy Density and Laser-Matter Interaction Studies.

SUMMARY: The National Nuclear Security Administration (NNSA) Service Center, Albuquerque, NM, plans to conduct a technically competitive solicitation via electronic means for basic research experiments in laser matter interaction studies at the National Laser User's Facility (NLUF) located at the University of Rochester Laboratory for Laser Energetics (UR/LLE). Universities or other higher education institutions, private sector not-for-profit organizations, and industry are invited to submit grant applications. The total amount of funding (project cost) is expected to be $1,000,000 for each Fiscal Years 2005 and 2006. Multiple awards are anticipated within the amount of funding available.

DATES: The solicitation will be available on IIPS on or about April 12, 2004. The solicitation number for this action is DE-SC52-04NA25436.

FOR FURTHER INFORMATION CONTACT: Erwin E. Fragua, Contract Specialist, NNSA/OBS, at (505) 845-6442 or by e-mail at efragua@doeal.gov.

SUPPLEMENTARY INFORMATION: The solicitation document contains all the information relative to this action for prospective applicants. The solicitation is being issued electronically through the Industry Interactive Procurement System (IIPS). The complete procedures for accessing the solicitation through IIPS are located at http://e-center.doe.gov. The actual work to be accomplished will be determined by the light-emitting diode (LED) experiments and diagnostics techniques will be evaluated through scientific peer review against predetermined, published and available criteria. NNSA will make final selection. The unique resources of the NLUF are available to scientists for state-of-the art experiments primarily in the area of laser-matter interaction and related plasma physics. Other areas such as spectroscopy of highly ionized atoms, laboratory astrophysics, fundamental physics, material science, and biology and chemistry will be considered on a secondary basis. The LLE was established in 1970 to investigate the interaction of high power lasers with matter. Available at the LLE for NLUF researchers is the OMEGA LASER, a 30kJ UV 60 beam laser system (at 0.35 um) suitable for direct-drive ICF implosions. This system is suitable for a variety of experiments including laser-plasma interactions and atomic spectroscopy. The NLUF program for FY 2005 and FY 2006 is to concentrate on experiments that can be done with the OMEGA laser at the University of Rochester and development of diagnostic techniques suitable for the OMEGA system. Measurements of the laser coupling, laser-plasma interactions, core temperature, and core density are needed to determine the characteristics of the target implosions. Diagnostic techniques could include either new instrumentation, development of analysis tools, or development of targets that are applicable for 30 kJ implosions.

Issued in Albuquerque, New Mexico, March 16, 2004.
Martha Youngblood,
Contracting Officer, Acquisition & Financial Assistance Department, NNSA Service Center.

[FR Doc. 04-6556 Filed 3-23-04; 8:45 am]

BILLING CODE 6450-01-P